DEPARTMENT OF LABOR

Employment and Training Administration

Determinations Regarding Eligiblity To Apply for Trade Adjustment Assistance

In accordance with Sections 223 and 284 (19 U.S.C. 2273 and 2395) of the Trade Act of 1974 (19 U.S.C. 2271, et seq.) (“Act”), as amended, the Department of Labor herein presents summaries of determinations regarding eligibility to apply for trade adjustment assistance under Chapter 2 of the Act (“TAA”) for workers by (TA-W) issued during the period of May 1 through May 31, 2021.

This notice includes summaries of initial determinations such as Affirmative Determinations of Eligibility, Negative Determinations of Eligibility, and Determinations Terminating Investigations of Eligibility within the period. If issued in the period, this notice also includes summaries of post-initial determinations that modify or amend initial determinations such as Affirmative Determinations Regarding Applications for Reconsideration, Negative Determinations Regarding Applications for Reconsideration, Revised Certifications of Eligibility, Revised Determinations on Reconsideration, Negative Determinations on Reconsideration, Revised Determinations on remand from the Court of International Trade, and Negative Determinations on remand from the Court of International Trade.

Affirmative Determinations for Trade Adjustment Assistance

The following certifications have been issued.

TA-W No. | Workers' firm | Location | Reason(s)
95271 | EnerVest Employee Services, LLC | Sonora, TX | Customer Imports of Articles.
95271A | Wood PLC | Sonora, TX | Customer Imports of Articles.
95271B | EnerVest Employee Services, LLC | Clintwood, VA | Customer Imports of Articles.
96567 | Ascension Technologies | Saint Louis, MO | Acquisition of Services from a Foreign Country.
96646 | Campbell Hausfeld | Leitchfield, KY | Customer Imports of Articles.
96647A | Octapharma Plasma Inc. | Chesapeake, VA | Shift in Production to a Foreign Country.
96647B | Octapharma Plasma Inc. | Lynchburg, VA | Shift in Production to a Foreign Country.
96647C | Octapharma Plasma Inc. | Newport News, VA | Shift in Production to a Foreign Country.
96647D | Octapharma Plasma Inc. | Norfolk, VA | Shift in Production to a Foreign Country.
96647E | Octapharma Plasma Inc. | Petersburg, VA | Shift in Production to a Foreign Country.
96647F | Octapharma Plasma Inc. | Portsmouth, VA | Shift in Production to a Foreign Country.
96647G | Octapharma Plasma, Inc | Richmond, VA | Shift in Production to a Foreign Country.
96647I | Octapharma Plasma Inc. | Virginia Beach, VA | Shift in Production to a Foreign Country.
96647J | Octapharma Plasma Inc. | Virginia Beach, VA | Shift in Production to a Foreign Country.
96736 | Ricoh Electronics, Inc. | Tustin, CA | Imports of Finished Articles Containing Like or Directly Competitive Components.
96744 | Panasonic Avionics Corporation | Bothell, WA | Secondary Service Supplier.
96750 | Emerald Polymer Additives LLC | Henry, IL | Customer Imports of Articles.
96754 | Catalytic Combustion Corporation | Bloomer, WI | Company Imports of Articles.
96755 | Dayco Products, LLC | Mount Pleasant, MI | Shift in Production to a Foreign Country.
96767 | Bed Bath & Beyond Inc. | Ocoee, FL | Acquisition of Services from a Foreign Country.
96774 | Northern Engraving Corporation | Sparta, WI | Shift in Production to a Foreign Country.
96792 | Pacific Life Insurance Company | Aliso Viejo, CA | Acquisition of Services from a Foreign Country.
96793 | Carlyle Compressor | Stone Mountain, GA | Shift in Production to a Foreign Country.
96797 | Schaffner Manufacturing | Pittsburgh, PA | Shift in Production to a Foreign Country.
96800 | Sensitech Inc. | Beverly, MA | Acquisition of Services from a Foreign Country.
96801 | Boehringer Ingelheim USA, Co. | Ridgefield, CT | Shift in Production to a Foreign Country.
96802 | Numerical Precision Inc. | Crosby, TX | ITC Determination.
96804 | Insurity LLC | Hartford, CT | Acquisition of Services from a Foreign Country.
96808 | Pacific Wood Laminates, Incorporated | Brookings, OR | ITC Determination.
96813 | Allstate Insurance Company | Northbrook, IL | Shift in Services to a Foreign Country.
96814 | The Anthem Companies, Inc. | Wallingford, CT | Acquisition of Services from a Foreign Country.
96815 | Halliburton Energy Services, Inc. | Duncan, OK | Shift in Services to a Foreign Country.
96816 | Gates Corporation | Galesburg, IL | Shift in Production to a Foreign Country.
96819 | Micro Contacts, Inc. DBA Micro Technologies | Hicksville, NY | Shift in Production to a Foreign Country.
96823 | GCI Communication Corporation | Anchorage, AK | Acquisition of Services from a Foreign Country.
96828 | Scot Forge Company | Spring Grove, IL | ITC Determination.
96828A | Scot Forge Company | Clinton, WI | ITC Determination.
96837 | GP Strategies Corporation | Bloomington, IN | Shift in Services to a Foreign Country.
96850 | Power Drives, Inc. | Erie, PA | Secondary Component Supplier.
96852 | Continental Automotive Systems Inc. | Fletcher, NC | Shift in Production to a Foreign Country.
96856 | ISSPro, Inc. | Portland, OR | Company Imports of Articles.
96858 | Capitol Manufacturing Company, LLC | Crowley, LA | ITC Determination.
96862 | Jeld-Wen, Inc. | Bend, OR | ITC Determination.
96878 | MUFG Union Bank, N.A. | Jersey City, NJ | Acquisition of Services from a Foreign Country.
96879 | Eaton Corporation | Belmond, IA | Shift in Production to a Foreign Country.
96881 | Arrow International | Asheboro, NC | Shift in Production to a Foreign Country.
96883 | RELX dba Reed Exhibitions | Norwalk, CT | Shift in Services to a Foreign Country.
96892 | Equinor US Operations LLC FKA Statoil Gulf Services LLC | Houston, TX | Shift in Production to a Foreign Country.
96895 | Viper Technologies d/b/a Avalign Thortex | Portland, OR | Company Imports of Articles.
96914 | Surgery Partners | Brentwood, TN | Acquisition of Services from a Foreign Country.

Negative Determinations for Trade Adjustment Assistance

The following investigations revealed that the eligibility criteria for TAA have not been met for the reason(s) specified.

TA-W No. | Workers' firm | Location | Reason(s)
96554 | Ezeflow USA, Inc. | New Castle, PA | No Shift in Production or Other Basis.
96611 | Damascus Steel, LLC | New Brighton, PA | No Shift in Production or Other Basis.
96641 | Hewlett Packard Enterprise | Colorado Springs, CO | No Employment Decline or Threat of Separation or ITC.
96645 | American Woodmark | Moorefield, WV | No Sales or Production Decline or Other Basis.
96651 | DeCare Dental (Anthem Companies, Inc.) | Saint Paul, MN | No Shift in Services or Other Basis.
96656 | Beckman Coulter, Inc. | Grants Pass, OR | No Shift in Services or Other Basis.
96683 | BGF Industries, Inc. | South Hill, VA | No Shift in Production or Other Basis.
96760 | Mondelez Global LLC Fair Lawn Bakery | Fair Lawn, NJ | No Sales or Production Decline or Other Basis.
96785 | Butterball, LLC | Carthage, MO | No Shift in Production or Other Basis.
96803 | Wabtec Corporation | Wilmerding, PA | No Shift in Production or Other Basis.
96844 | Moovel North America, LLC | Portland, OR | No Shift in Services or Other Basis.

Determinations Terminating Investigations for Trade Adjustment Assistance

The following investigations were terminated for the reason(s) specified.

TA-W No. | Workers' firm | Location | Reason(s)
96647 | Octapharma Plasma Inc. | Charlottesville, VA | Invalid Petition.
96647H | Octapharma Plasma Inc. | Richmond, VA | Invalid Petition.
96789 | Boeing Distribution Services, Inc. | Chambersburg, PA | Existing Certification in Effect.

Revised Certifications of Eligibility

The following revised certifications of eligibility to apply for TAA have been issued.

TA-W No. | Workers' firm | Location | Reason(s)
96141 | Boeing Distribution Services, Inc. | Miami, FL | Worker Group Clarification.
96141A | Boeing Distribution Services, Inc. | Chandler, AZ | Worker Group Clarification.
96141B | Boeing Distribution Services, Inc. | Carson, CA | Worker Group Clarification.
96141C | Boeing Distribution Services, Inc. | Enfield, CT | Worker Group Clarification.
96141D | Boeing Distribution Services, Inc. | Wichita, KS | Worker Group Clarification.
96141E | Boeing Distribution Services, Inc. | O'Fallon, MO | Worker Group Clarification.
96141F | Boeing Distribution Services, Inc. | Parsippany, NJ | Worker Group Clarification.
96141G | Boeing Distribution Services, Inc. | Cornwall, NY | Worker Group Clarification.
96141H | Boeing Distribution Services, Inc. | Westbury, NY | Worker Group Clarification.
96141I | Boeing Distribution Services, Inc. | Greensboro, NC | Worker Group Clarification.
96141J | Boeing Distribution Services, Inc. | Boothwyn, PA | Worker Group Clarification.
96141K | Boeing Distribution Services, Inc. | Philadelphia, PA | Worker Group Clarification.
96141L | Boeing Distribution Services, Inc. | Coppell, TX | Worker Group Clarification.
96141M | Boeing Distribution Services, Inc. | Fort Worth, TX | Worker Group Clarification.
96141N | Boeing Distribution Services, Inc. | Houston, TX | Worker Group Clarification.
96141O | Boeing Distribution Services, Inc. | Kent, WA | Worker Group Clarification.
96141P | Boeing Distribution Services, Inc. | Chambersburg, PA | Worker Group Clarification.

Termination on Reconsideration

The following determinations to terminate a reconsideration have been issued for the reason(s) specified.

TA-W No. | Workers' firm | Location | Reason(s)
95251 | Daimler Trucks North America | Cleveland, NC | Applicant Requests Withdrawal.

I hereby certify that the aforementioned determinations were issued during the period of May 1 through May 31, 2021. These determinations are available on the Department's website https://www.dol.gov/agencies/eta/tradeact under the searchable listing determinations or by calling the Office of Trade Adjustment Assistance toll free at 888-365-6822.

Signed at Washington, DC this 11th day of June 2021.
Hope D. Kinglock,
Certifying Officer, Office of Trade Adjustment Assistance.

[FR Doc. 2021-13264 Filed 6-23-21; 8:45 am]

BILLING CODE 4510-FN-P